DEPARTMENT OF COMMERCE

National Oceanic and Atmospheric Administration

[RTID 0648-XC209]

Endangered Species; File No. 26268

AGENCY: National Marine Fisheries Service (NMFS), National Oceanic and Atmospheric Administration (NOAA), Commerce.

ACTION: Notice; receipt of application.

SUMMARY: Notice is hereby given that Kate Mansfield, Ph.D., University of Central Florida, Biology, 4000 Central Florida Blvd., Bldg. 20, Room 301, Orlando, FL 32816-2368, has applied in due form for a permit to take green (Chelonia mydas), hawksbill (Eretmochelys imbricata), Kemp's ridley (Lepidochelys kempii), leatherback (Dermochelys coriacea), and loggerhead (Caretta caretta) sea turtles for purposes of scientific research.

DATES: Written, telefaxed, or email comments must be received on or before August 29, 2022.

ADDRESSES: The application and related documents are available for review by selecting “Records Open for Public Comment” from the “Features” box on the Applications and Permits for Protected Species (APPS) home page, https://apps.nmfs.noaa.gov, and then selecting File No. 26268 from the list of available applications. These documents are also available upon written request via email to NMFS.Pr1Comments@noaa.gov.

Written comments on this application should be submitted via email to NMFS.Pr1Comments@noaa.gov. Please include File No. 26268 in the subject line of the email comment.

Those individuals requesting a public hearing should submit a written request via email to NMFS.Pr1Comments@noaa.gov. The request should set forth the specific reasons why a hearing on this application would be appropriate.

FOR FURTHER INFORMATION CONTACT: Amy Hapeman or Erin Markin, (301) 427-8401.

SUPPLEMENTARY INFORMATION: The subject permit is requested under the authority of the Endangered Species Act of 1973, as amended (ESA; 16 U.S.C. 1531 et seq.) and the regulations governing the taking, importing, and exporting of endangered and threatened species (50 CFR parts 222-226).

The applicant proposes to continue three long-term projects on juvenile, subadult, and adult sea turtle populations in the central Indian River Lagoon (Project 1); Trident Turning Basin, Cape Canaveral Space Force Station (Project 2); and Gulf of Mexico waters offshore Louisiana to western Florida (Project 3). Researchers would assess sea turtle population structure, abundance, distribution, habitat, sex ratios, physiology, genetics, epidemiology, and foraging ecology. For Project 1, up to 150 green, two hawksbill, three Kemp's ridley, one leatherback, and 100 loggerhead sea turtles would be captured by tangle or dip net, marked, photographed, measured, weighed, have cloacal temperature measured, and biologically sampled (blood; skin, tumor, and scute biopsy; gastric lavage; voided feces; and/or cloacal, oral, skin and ocular swabs) prior to release. A subset of loggerhead and green sea turtles may receive two transmitter types (satellite, acoustic, or radio) at a time. For Project 2, up to 135 green, one hawksbill, one Kemp's ridley, one leatherback, and 10 loggerhead sea turtles would be captured by tangle or dip net, marked, photographed, measured, weighed, have cloacal temperature measured, and biologically sampled (blood; skin, tumor, and scute biopsy; gastric lavage; voided feces; and/or cloacal, oral, skin and ocular swabs) prior to release. A subset of green sea turtles may receive two transmitter types (satellite, acoustic, or radio) at a time. For Project 3, up to 25 green, five hawksbill, 25 Kemp's ridley, and five loggerhead sea turtles would be captured by dip net, marked, photographed, measured, weighed, have cloacal temperature measured, biologically sampled (blood; skin, tumor, and scute biopsy; gastric lavage; voided feces; and cloacal, oral, skin and ocular swabs), and outfitted with up to two transmitters types (satellite, acoustic, or radio) at a time prior to release. The permit would be valid for 10 years.

Dated: July 26, 2022.
Julia M. Harrison,
Chief, Permits and Conservation Division, Office of Protected Resources, National Marine Fisheries Service.

[FR Doc. 2022-16294 Filed 7-28-22; 8:45 am]

BILLING CODE 3510-22-P